DEPARTMENT OF TRANSPORTATION

Federal Aviation Administration

Hand Fire Extinguishers for Use in Aircraft, AC 20-42D Revision

AGENCY: Federal Aviation Administration, DOT.

ACTION: Notice of availability and request for public comment.

SUMMARY: This notice announces the availability of and request for public comments on the proposed revision of current Federal Aviation Administration (FAA) Advisory Circular (AC) 20-42C, Hand Fire Extinguishers for use in Aircraft. The proposed revision “D” to the AC provides updated guidance for the fire-fighting effectiveness, selection, location, mounting and safe-use of hand fire extinguishers in aircraft. It also identifies three FAA approved replacement agents for Halon 1211.

DATES: Comments must be received on or before November 27, 2009.

ADDRESSES: Send all comments on the proposed revision to FAA AC 20-42D to: Federal Aviation Administration, Aircraft Certification Service, Aircraft Engineering Division, 950 L'Enfant Plaza, 5th Floor, SW., Washington, DC 20024. attn: John Petrakis, AIR-120. You may deliver comments to: Federal Aviation Administration, 950 L'Enfant Plaza, 5th Floor, SW., Washington, DC 20024, or electronically submit comments to the following Internet address: 9-AWA-AVS-AIR120-TechPrograms@faa.gov. Include in the subject line of your message the title of the document, Comments FAA AC 20-42D, Hand Fire Extinguishers for use in Aircraft.

FOR FURTHER INFORMATION CONTACT: John Petrakis, Senior Aerospace Engineer, Federal Aviation Administration, Aircraft Certification Service, Aircraft Engineering Division, Technical Programs and Continued Airworthiness Branch, AIR-120, 950 L'Enfant Plaza, 5th Floor, SW., Washington, DC 20024. Telephone (202) 385-6341, FAX (202) 385-6475, or e-mail at: john.petrakis@faa.gov.

SUPPLEMENTARY INFORMATION:

Comments Invited

You are invited to comment on the draft order listed in this notice by sending such written data, views, or arguments to the above listed address. Please identify “FAA AC 20-42D, Hand Fire Extinguishers for use in Aircraft” as the subject of your comments. You may also examine comments received on the proposals before and after the comment closing date at FAA offices, 950 L'Enfant Plaza, 5th Floor, SW., Washington, DC 20024, weekdays except Federal holidays, between 8:30 a.m. and 4:30 p.m. The Director of the Aircraft Certification Service will consider all communications received on or before the closing date before implementing the revision.

Background

The FAA developed this proposed revision to AC 20-42C with direct industry assistance through the International Aircraft Systems Fire Protection Working Group (IASFPWG). The proposed revision will provide users with updated guidance on available extinguishing agents. Specifically, the revised AC will provide guidance on the effectiveness and safe-use of Halon 1211 and three FAA approved replacement agents.

It: (1) Establishes an FAA approved minimum performance standard (MPS) for halon replacement agents developed by the FAA Technical Center which requires a hidden fire test and a seat fire/toxicity test; (2) Recommends that users of halon extinguishers transition to using the new halocarbon clean replacement agents in fire extinguishers kept onboard airplanes and rotorcraft; and (3) Provides guidance on how to gain certification for halocarbon clean agent extinguishers intended to replace Halon 1211 hand-held extinguishers.

How To Obtain Copies

You can get an electronic copy via the Internet at http://www.faa.gov/aircraft/draft_docs/, and then select Advisory Circulars, or by contacting the person named in the paragraph FOR FURTHER INFORMATION CONTACT.

Issued in Washington, DC on October 1, 2009.
Susan J.M. Cabler,
Assistant Manager Aircraft Engineering Division, Aircraft Certification Service.

[FR Doc. E9-24517 Filed 10-9-09; 8:45 am]

BILLING CODE 4910-13-P